DEPARTMENT OF HEALTH AND HUMAN SERVICES

Centers for Disease Control and Prevention

[30Day-13-0488]

Agency Forms Undergoing Paperwork Reduction Act Review

The Centers for Disease Control and Prevention (CDC) publishes a list of information collection requests under review by the Office of Management and Budget (OMB) in compliance with the Paperwork Reduction Act (44 U.S.C. chapter 35). To request a copy of these requests, call (404) 639-7570 or send an email to omb@cdc.gov. Send written comments to CDC Desk Officer, Office of Management and Budget, Washington, DC 20503 or by fax to (202) 395-5806. Written comments should be received within 30 days of this notice.

Proposed Project

Restriction on Interstate Travel of Persons (OMB Control No. 0920-0488, Exp. 3/31/2013)—Revision—National Center for Emerging and Zoonotic Infectious Diseases (NCEZID), Centers for Disease Control and Prevention (CDC).

Background and Brief Description

The Centers for Disease Control and Prevention is requesting OMB approval for a revision of the information collection, “Restriction on Interstate Travel of Persons” (OMB Control No. 0920-0488).

This information collection request is scheduled to expire on March 31, 2013. CDC is authorized to collect this information under 42 CFR 70.5 (Certain communicable diseases; special requirements). This regulation requires that any person who is in the communicable period for cholera, plague, smallpox, typhus, or yellow fever or having been exposed to any such disease is in the incubation period thereof, to apply for and receive a permit from the Surgeon General or his authorized representative in order to travel from one State or possession to another.

CDC is requesting changes to the forms used within this information collection. The changes involve splitting the current form into two separate forms based on the type of respondent: an ill traveler, or the master of a vessel or conveyance engaged in interstate travel. CDC is also adding the option of electronic reporting of illness.

Control of disease transmission within the States is considered to be the province of state and local health authorities, with Federal assistance being sought by those authorities on a cooperative basis without application of Federal regulations. The regulations in 42 Part 70 were developed to facilitate Federal action in the event of large outbreaks requiring a coordinated effort involving several states, or in the event of inadequate local control. While it is not known whether, or to what extent situations may arise in which these regulations would be invoked, contingency planning for domestic emergency preparedness is now commonplace. Should these situations arise, CDC will use the reporting and recordkeeping requirements contained in the regulations to carry out quarantine responsibilities as required by law. The total number of burden hours requested for this collection is 3,701.

There is no cost to respondents other than their time.

Type of respondent | Form name | Number of respondents | Number of responses per respondent | Average burden per response (in hours)
Traveler | 42 CFR 70.3 Application to the State of destination for a permit | 2,000 | 1 | 15/60
Attending physician | 42 CFR 70.3 Copy of material submitted by applicant and permit issued by State health authority | 2,000 | 1 | 15/60
State health authority | 42 CFR 70.3 Copy of material submitted by applicant and permit issued by State health authority | 8 | 250 | 6/60
Master of a vessel or person in charge of a conveyance | 42 CFR 70.4 Report by the master of a vessel or person in charge of conveyance of the incidence of a communicable disease occurring while in interstate travel (Paper Form if requested by CDC during public health emergency) | 1,500 | 1 | 15/60
State health authority | 42 CFR 70.4 Copy of material submitted to state or local health authority under this provision (Paper Form if requested by CDC during public health emergency) | 20 | 75 | 6/60
Master of a vessel or person in charge of a conveyance | 42 CFR 70.4 Report by the master of a vessel or person in charge of conveyance of the incidence of a communicable disease occurring while in interstate travel (Radio or other telecommunication for routine reporting) | 200 | 1 | 15/60
State health authority | 42 CFR 70.4 Copy of material submitted to state or local health authority under this provision (Radio or other telecommunication for routine reporting) | 200 | 1 | 15/60
Traveler | 42 CFR 70.5 Application for a permit to move from State to State while in the communicable period | 3,750 | 1 | 15/60
Attending physician | 42 CFR 70.5 Application for a permit to move from State to State while in the communicable period | 3,750 | 1 | 15/60

Dated: January 10, 2013.
Ron A. Otten,
Director, Office of Scientific Integrity (OSI), Office of the Associate Director for Science (OADS), Office of the Director Centers for Disease Control and Prevention.

[FR Doc. 2013-00987 Filed 1-17-13; 8:45 am]

BILLING CODE 4163-18-P